DEPARTMENT OF COMMERCE

National Oceanic and Atmospheric Administration

RIN 0648-XX08

Marine Mammals; File No. 14628

AGENCY: National Marine Fisheries Service (NMFS), National Oceanic and Atmospheric Administration (NOAA), Commerce.

ACTION: Notice; issuance of permit.

SUMMARY: Notice is hereby given that National Museum of Natural History, Smithsonian Institution (Charles W. Potter, Responsible Party), P.O. Box 37012, Washington, DC 20013, has been issued a permit to salvage, collect, receive/possess, and import/export parts from cetaceans and pinnipeds (except for walrus) for scientific research.

ADDRESSES: The permit and related documents are available for review upon written request or by appointment in the following office(s):

Permits, Conservation and Education Division, Office of Protected Resources, NMFS, 1315 East-West Highway, Room 13705, Silver Spring, MD 20910; phone (301) 713-2289; fax (301) 713-0376; and

Northeast Region, NMFS, 55 Great Republic Drive, Gloucester, MA 01930; phone (978) 281-9328; fax (978) 281-9394.

FOR FURTHER INFORMATION CONTACT: Laura Morse or Jennifer Skidmore, (301) 713-2289.

SUPPLEMENTARY INFORMATION: On June 29, 2010, notice was published in the Federal Register (75 FR 37389) that a request for a permit to salvage, collect, import, export, receive, possess, archive, and conduct analyses of marine mammal and endangered species parts. The applicant is requesting parts of all marine mammal under NMFS jurisdiction to be included in this permit. No live animal takes are being requested and no incidental harassment of animals would occur. Parts would be archived by the NMNH and used to support research studies and incidental education. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

In compliance with the National Environmental Policy Act of 1969 (42 U.S.C. 4321 et seq.), a final determination has been made that the activity proposed is categorically excluded from the requirement to prepare an environmental assessment or environmental impact statement.

Dated: November 18, 2010.
P. Michael Payne,
Chief, Permits, Conservation and Education Division, Office of Protected Resources, National Marine Fisheries Service.

[FR Doc. 2010-29811 Filed 11-24-10; 8:45 am]

BILLING CODE 3510-22-P